COMMITTEE FOR THE IMPLEMENTATION OF TEXTILE AGREEMENTS

Determination under the Textile and Apparel Commercial Availability Provision of the Dominican Republic-Central America-United States Free Trade Agreement (CAFTA-DR Agreement)

April 19, 2007.

AGENCY: Committee for the Implementation of Textile Agreements (CITA).

ACTION: Determination to add a product in unrestricted quantities to Annex 3.25 of the CAFTA-DR Agreement

EFFECTIVE DATE: April 24, 2007

SUMMARY: The Committee for the Implementation of Textile Agreements (CITA) has determined that certain cotton/polyester circular knit fleece fabrics, as specified below, are not available in commercial quantities in a timely manner in the CAFTA-DR region. The product will be added to the list in Annex 3.25 of the CAFTA-DR in unrestricted quantities.

FOR FURTHER INFORMATION CONTACT: Richard Stetson, Office of Textiles and Apparel, U.S. Department of Commerce, (202) 482 2582.

FOR FURTHER INFORMATION ON-LINE: http://web.ita.doc.gov/tacgi/CaftaReqTrack.nsf.Reference number: 19.2007.03.16.Fabric.ST&RforIntradeco.

SUPPLEMENTARYINFORMATION:

Authority: Section 203(o)(4) of the Dominican Republic-Central America-United States Free Trade Agreement Implementation Act (CAFTA-DR Act); the Statement of Administrative Action (SAA), accompanying the CAFTA-DR Act; Presidential Proclamations 7987 (February 28, 2006) and 7996 (March 31, 2006).

BACKGROUND:

The CAFTA-DR Agreement provides a list in Annex 3.25 for fabrics, yarns, and fibers that the Parties to the CAFTA-DR Agreement have determined are not available in commercial quantities in a timely manner in the territory of any Party. Articles that otherwise meet the rule of origin to qualify for preferential treatment are not disqualified because they contain one of the products on the Annex 3.25 list.

The CAFTA-DR Agreement provides that this list may be modified pursuant to Article 3.25(4)-(5), when the President of the United States determines that a fabric, yarn, or fiber is not available in commercial quantities in a timely manner in the territory of any Party. The CAFTA-DR Act states that the President will make a determination on whether additional fabrics, yarns, and fibers are available in commercial quantities in a timely manner in the territory of any Party. The CAFTA-DR Act requires the President to establish procedures governing the submission of a request and to provide an opportunity for interested entities to submit comments and supporting evidence before a commercial availability determination is made. In Presidential Proclamations 7987 and 7996, the President delegated to CITA the authority under section 203(o)(4) of CAFTA-DR Act for modifying the Annex 3.25 list. On February 23, 2006, CITA published interim procedures it would follow in considering requests to modify the Annex 3.25 list (71 FR 9315). CITA published Final Procedures on March 21, 2007. (72 FR 13256).

On March 16, 2007, the Chairman of CITA received a request from Sandler, Travis & Rosenberg, P.A., on behalf of Intradeco Apparel, for certain cotton/polyester circular knit fleece fabric, of the specifications detailed below. On March 20, 2007, CITA notified interested parties of, and posted on its website, the accepted petition and requested that interested entities provide, by March 30, 2007, a response advising of its objection to the request or its ability to supply the subject product, and rebuttals to responses by April 5, 2007.

On March 23, 2007, Liztex Guatemala submitted a response objecting to the request; however, on March 30, 2007, Liztex Guatemala withdrew its objection. Therefore, no interested entity submitted a response advising CITA of its objection to the request or its ability to supply the subject product.

In accordance with Section 203(o)(4)(C)(iii)(II) of the CAFTA-DR Act, and its procedures, as no interested entity submitted a response objecting to the request or expressing an ability to supply the subject product, CITA has determined to add the specified fabrics to the list in Annex 3.25 CAFTA-DR Agreement.

The subject fabrics are added to the list in Annex 3.25 CAFTA-DR Agreement in unrestricted quantities. A revised list has been published on-line.

Specifications:

HTS Subheading: | 6001.21
Fiber Content: | 80% cotton/ 20% polyester
Yarn: | Face Yarn
| 100% combed cotton ring spun,
| 49/1 to 54/1 metric (29/1 to 32/1), in each of the following configurations:
| a.) 100% bleached or dyed cotton
| b.) 95% undyed cotton / 5% dyed cotton
| c.) 90% undyed cotton/ 10% dyed cotton
| d.) 80% undyed cotton/ 20% dyed cotton
| e.) 70% undyed cotton/ 30% dyed cotton
| f.) 60% undyed cotton/ 40% dyed cotton
| g.) 50% undyed cotton/ 50% dyed cotton
| h.) 40% undyed cotton/ 60% dyed cotton
| i.) 30% undyed cotton/ 70% dyed cotton
| j.) 25% undyed cotton/ 75% dyed cotton
| k.) 20% undyed cotton/ 80% dyed cotton
| NOTE: The percentages stated above may vary by up to two percentage points.
| Tie Yarn
| 183 to 188/48 filament metric filament polyester
| (49 to 51/48 filament denier)
| Fleece Yarn
| 70% carded cotton/ 30% 2250 metric polyester staple,
| 26/1 to 30/1 metric ring spun
| (70% cotton/ 30% 2.25 denier polyester staple,
| 15.5/1 to 18/1 ring spun)
Machine Gauge: | 21
Weight: | 247 to 258 grams per square meter
| (7.3 to 7.5 ounces per square yard)
Width: | Not less than 152 centimeters cuttable
| (Not less than 60 inches cuttable)
Finish: | Napped on technical back; bleached; dyed; of yarns of different colors.
Performance Criteria: | Not more than 5% vertical and horizontal shrinkage; not more than 4% vertical torque.

Philip J. Martello,
Acting Chairman, Committee for the Implementation of Textile Agreements.

[FR Doc. E7-7787 Filed 4-23-07; 8:45 am]

BILLING CODE 3510-DS